NUCLEAR REGULATORY COMMISSION

[NRC 2009-0214]

Announcement of a Proposed Process Change Regarding the Review of Research and Test Reactor License Renewal Applications; Notice of Public Meeting

AGENCY: Nuclear Regulatory Commission.

ACTION: Notice of stakeholder meeting regarding a proposed process change for the renewal of research and test reactor licenses.

SUMMARY: The Nuclear Regulatory Commission (NRC) is proposing a streamlined review process for license renewal applications (LRAs) for research and test reactor (RTR) licenses with the objective of expeditiously resolving the backlog of LRAs while maintaining safety standards. Draft Interim Staff Guidance (ISG) proposed to be implemented will be published for public review prior to the meeting on the NRC Public Meeting Schedule Web site, http://www.nrc.gov/public-involve/public-meetings/index.cfm.

DATES: A public meeting for stakeholders will be held June 4, 2009, commencing at 1 p.m.

ADDRESSES: The meeting will be held at the Legacy Hotel and Meeting Center, 1775 Rockville Pike, Rockville, MD 20852.

FOR FURTHER INFORMATION CONTACT: Alexander Adams Jr., Division of Policy and Rulemaking, Office of Nuclear Reactor Regulation, U.S. Nuclear Regulatory Commission, Washington, DC 20555-0001, telephone (301) 415-1127, e-mail alexander.adams@nrc.gov; or Marcus Voth, Division of Policy and Rulemaking, Office of Nuclear Reactor Regulation, U.S. Nuclear Regulatory Commission, Washington, DC 20555-0001, telephone (301) 415-1210, e-mail marcus.voth@nrc.gov.

SUPPLEMENTARY INFORMATION:

Background

At the present time 21 of the 32 RTRs licensed to operate in the United States have LRAs before the NRC. Several issues have contributed to the large backlog, including NRC licensing staffing levels, emergent issues, limited licensee resources, existing license infrastructure, regulatory requirements, and the broad scope of the RTR license renewal process as discussed in SECY-08-0161, “Review of Research and Test Reactor License Renewal Applications,” dated October 24, 2008. In a staff requirements memorandum (SRM) dated March 26, 2009, the staff was directed to streamline the current license renewal process incorporating concepts discussed in SECY-08-0161 among other measures. These documents can be found on the NRC Agencywide Documents Access and Management system (ADAMS) under accession numbers ML0825501403 and ML0908501591, respectively. The staff is presently developing proposed guidance along with the rationale for the focused license renewal process for RTRs.

The traditional process currently being used for reviewing LRAs is to perform a full review based on the standard review plan for RTRs, NUREG-1537, “Guidelines for Preparing and Reviewing Applications for the Licensing of Non-Power Reactors, Part 2,” February 1996. The standard review plan addresses all of the topics required to be addressed in applications by 10 CFR 50.33 and 50.34, the same process as used for an initial license issuance. The staff is proposing to continue this full review process for those LRAs well into the renewal review process and for RTRs licensed for power levels equal to or greater than 2 megawatts. The staff proposes to apply the new focused review process to the remaining LRAs in the backlog.

Two public meetings were held to discuss formulation of the proposed process with stakeholders, the first on September 15, 2008, and a second on March 25, 2009. In each meeting the staff presented aspects of the proposed streamlined review process and addressed questions from the public.

Objectives of the Focused Review Process for RTR License Renewal

The objective of the focused review process for license renewal is to provide a process that ensures that applications are properly evaluated, documented, and implemented in accordance with the following goals:

• To ensure the continued health and safety of the public and protection of the environment,

• To provide public confidence in the regulatory oversight process,

• To propose an effective, efficient, and timely method of processing the existing LRA backlog,

• To develop, document, and implement Interim Staff Guidance (ISG) for a focused review process,

• To acknowledge the safe operating histories of RTRs demonstrated over the facility lifetime documented in reports of periodic NRC inspections, and

• To meet requirements of Section 104.c of the Atomic Energy Act calling for “* * * only such minimum amount of regulation of the licensee as the Commission finds will permit the common defense and security to protect the health and safety of the public and will permit the conduct of widespread and diverse research and development.”

The staff is proposing that a focused approach be implemented for those facilities in the current LRA backlog that have been reviewed in the past and found to have low risk to the public health and safety. ISG is being prepared that will define a focused review process which meets regulatory requirements and the goals stated above while taking credit for previous reviews of structures, systems, and components. Likewise, a Safety Evaluation Report will be prepared that contains fewer than the entire 18 topics addressed in the standard review plan but at a minimum will address the three areas most critical to safety; reactor design and operation, accident analysis, and technical specifications. The staff is proposing that the ISG not be applied in the following two situations.

First, the staff proposes that the traditional full review process be used for RTRs licensed for greater than 2 megawatts. The licensed maximum thermal power levels of the RTRs range from 5 watts to 20 megawatts. The staff routinely uses a graded approach to apply regulations commensurate with the risk of licensed RTRs. A long-standing demarcation used by the staff has required additional regulatory attention to RTRs licensed for 2 megawatts or greater. Part of the technical basis for this threshold is that reactor power is related to the potential fission product inventory which in turn determines the potential dose consequence of an accident.

Second, the review of some LRAs which are currently nearing completion using the traditional full review process will continue to be performed in that manner rather than using the ISG to allow for the efficient use of staff resources. In implementing the proposed ISG the staff may find that one or more exemptions to certain regulations may be required. If a need for an exemption should arise it is proposed to be processed using existing provisions in the regulations for granting exemptions.

Follow-on Actions

During implementation of the streamlined review process the staff will be considering other regulatory improvements to the RTR LRA process. Specific areas being considered are requirements for maintaining a periodically updated facility Safety Analysis Report and the requirement for earlier submittal of a LRA, allowing time for the licensee to make revisions in the event the NRC determines that the content of the application does not meet the regulatory requirement.

Dated at Rockville, Maryland, this 18th day of May 2009.
For the Nuclear Regulatory Commission.
Kathryn M. Brock,
Chief, Research and Test Reactor Branch A, Division of Policy and Rulemaking, Office of Nuclear Reactor Regulation.

[FR Doc. E9-11984 Filed 5-21-09; 8:45 am]

BILLING CODE 7590-01-P